DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 22, 2008.

Interested persons are invited to submit written comments regarding the subject matter of the investigations to the Director, Division of Trade Adjustment Assistance, at the address shown below, not later than August 22, 2008.

The petitions filed in this case are available for inspection at the Office of the Director, Division of Trade Adjustment Assistance, Employment and Training Administration, U.S. Department of Labor, Room C-5311, 200 Constitution Avenue, NW., Washington, DC 20210.

Signed at Washington, DC, this 6th day of August 2008.
Linda G. Poole,
Certifying Officer, Division of Trade Adjustment Assistance.

Appendix
TAA petitions instituted between 7/28/08 and 8/1/08
TA-W | Subject firm (petitioners) | Location | Date of institution | Date of petition
63748 | Great Eastern Mussel Farms, Inc. (Comp) | Tenants Harbor, ME | 07/28/08 | 07/25/08
63749 | Lear Corporation (Wkrs) | Bridgeton, MO | 07/28/08 | 07/24/08
63750 | Hi-Jon, Inc. (Wkrs) | San Francisco, CA | 07/28/08 | 07/18/08
63751 | Comau, Inc., Novi Industries (Comp) | Novi, MI | 07/28/08 | 07/23/08
63752 | San Francisco Network (Wkrs) | San Rafael, CA | 07/28/08 | 07/18/08
63753 | Elbeco Inc, Transcontinental Acquisition Grp Div. (Comp) | Los Angeles, CA | 07/28/08 | 07/25/08
63754 | Lane Furniture Ind. (Wkrs) | Belden, MS | 07/29/08 | 07/28/08
63755 | MWR (CWA) | Sidney, NY | 07/29/08 | 07/09/08
63756 | Avery Dennison Corporation (Comp) | Lenoir, NC | 07/29/08 | 07/28/08
63757 | Continental Sprayers International, Inc. (State) | Bridgeport, CT | 07/29/08 | 07/28/08
63758 | Lear Corporation (Wkrs) | El Paso, TX | 07/29/08 | 07/25/08
63759 | S. Shamash and Sons (Wkrs) | New York, NY | 07/29/08 | 07/21/08
63760 | American Racing Equipment (Rep) | Rancho Dominguez, CA | 07/29/08 | 06/24/08
63761 | Level 3 (Wkrs) | Austin, TX | 07/29/08 | 07/28/08
63762 | Westin Automotive (State) | St. James, MN | 07/29/08 | 07/28/08
63763 | Bennington Paperboard (Comp) | N. Hoosick, NY | 07/29/08 | 07/28/08
63764 | Haverhill Paperboard (Comp) | Bradford, MA | 07/29/08 | 07/28/08
63765 | Campbell Manufacturing (State) | Sparta, MO | 07/29/08 | 07/25/08
63766 | Federal-Mogul Corporation (Comp) | Boyertown, PA | 07/29/08 | 07/24/08
63767 | Pride Manufacturing Co., LLC (Comp) | Guilford, ME | 07/30/08 | 07/28/08
63768 | Zagaroli Classics, Inc. (State) | Hickory, NC | 07/30/08 | 07/28/08
63769 | TSI Graphics (State) | Effingham, IL | 07/30/08 | 07/28/08
63770 | ACCO Brands—GBC (Wkrs) | Pleasant Prairie, WI | 07/30/08 | 07/28/08
63771 | Blue Water Automotive Systems, Inc. (Wkrs) | Burlington, NC | 07/30/08 | 07/25/08
63772 | Rogue Valley Door (Wkrs) | Grants Pass, OR | 07/30/08 | 07/29/08
63773 | Enviro-Powder Company (Comp) | Caledonia, MI | 07/30/08 | 07/29/08
63774 | AME Manufacturing, Inc. (Wkrs) | Riverside, CA | 07/30/08 | 07/25/08
63775 | Duncan Solutions (State) | Harrison, AR | 07/31/08 | 07/30/08
63776 | GE Consumer and Industrial Lighting (IUECWA) | Cleveland, OH | 07/31/08 | 07/29/08
63777 | Wilton Armetale (Comp) | Mount Joy, PA | 07/31/08 | 07/09/08
63778 | Chuck Roast Equipment, Inc. (Comp) | Conway, NH | 07/31/08 | 07/31/08
63779 | Wee Ones, Inc. (Wkrs) | Louisiana, MO | 07/31/08 | 07/30/08
63780 | Newell Rubbermaid (State) | Maryville, TN | 07/31/08 | 07/30/08
63781 | Dow Reichhold Specialty Latex, LLC (Comp) | Chickamauga, GA | 07/31/08 | 07/30/08
63782 | Whirlpool Corporation (Comp) | LaVergne, TN | 07/31/08 | 07/29/08
63783 | Kellsport Industries, Inc. (Comp) | Fall River, MA | 07/31/08 | 07/30/08
63784 | Stimson Lumber Company (Wkrs) | Colville, WA | 07/31/08 | 07/22/08
63785 | American Wood Mark (State) | Ham Lake, MN | 08/01/08 | 07/31/08
63786 | International Automotive Components—North America (State) | Rochester Hills, MI | 08/01/08 | 07/29/08
63787 | Bowne (Wkrs) | Atlanta, GA | 08/01/08 | 07/25/08
63788 | Hanes Dye and Finishing (Wkrs) | Butner, NC | 08/01/08 | 07/30/08
63789 | Spectra-Physics (Wkrs) | Tucson, AZ | 08/01/08 | 07/28/08
63790 | The Fish Harder Companies, LLC (Wkrs) | Indiana, PA | 08/01/08 | 07/31/08
63791 | Thermo Fisher Scientific—SAMCO (Wkrs) | San Fernando, CA | 08/01/08 | 07/28/08
63792 | Caraaustar—Chattanooga Paperboard (AFLCIO) | Chattanooga, TN | 08/01/08 | 07/31/08

[FR Doc. E8-18579 Filed 8-11-08; 8:45 am]

BILLING CODE 4510-FN-P